DEPARTMENT OF DEFENSE

Office of the Secretary

Membership of the Performance Review Board

AGENCY: Department of Defense, Missile Defense Agency (MDA).

ACTION: Notice.

This notice announces the appointment of the members of the Performance Review Board (PRB) of the Missile Defense Agency. The publication of PRB membership is required by 5 U.S.C. 4314(c)(4).

The Performance Review Board (PRB) provides fair and impartial review of Senior Executive Service performance appraisals and makes recommendations regarding performance ratings and performance scores to the Director, MDA.

Effective Date: September 1, 2007.

FOR FURTHER INFORMATION CONTACT: Gail Gallant, MDA SES Program Manager, Missile Defense Agency, Arlington, Virginia, (703) 693-1744.

SUPPLEMENTARY INFORMATION: In accordance with 5 U.S.C. 4314(c)(4), the following executives are appointed to the Missile Defense Agency PRB:

Brigadier General Patrick J. O'Reilly, USA.

Dr. Patricia Sanders.

Mr. Chester DeCesaris.

Mr. Richard Ritter.

RADM Alan Hicks, USN.

Executives listed will serve a one-year term, effective September 1, 2007.

Dated: September 4, 2007.
L.M. Bynum,
Alternate OSD Federal Register Liaison Officer, DoD.

[FR Doc. 07-4409 Filed 9-7-07; 8:45 am]

BILLING CODE 5001-06-M